DEPARTMENT OF DEFENSE

Office of the Secretary

Senior Executive Service Performance Review Board

AGENCY: Office of the Inspector General, Department of Defense (OIG, DoD).

ACTION: Notice.

SUMMARY: This notice announces the appointment of the members of the Senior Executive Service (SES) Performance Review Board (PRB) for the OIG, DoD, as required by 5 U.S.C. 4314(c)(4). The PRB provides fair and impartial review of SES performance appraisals and makes recommendations regarding performance ratings, performance awards and recertification to the Inspector General.

EFFECTIVE DATE: July 1, 2000.

FOR FURTHER INFORMATION CONTACT: Mr. Stanley Boardman, Director, Personnel and Security Directorate, Office of Administration and Management, OIG, DoD, 400 Army Navy Drive, Arlington, VA 22202, (703) 604-9716.

Charles W. Beardall, Deputy Assistant Inspector General for Criminal Investigative Policy and Oversight, OAIG—for Investigations

David A. Brinkman, Director, Audit Followup and Technical Support, OAIG—Auditing

C. Frank Broome, Director, Office of Departmental Inquiries

David M. Crane, Director, Office for Intelligence Review

Thomas F. Gimble, Director, Acquisition Management, OAIG—Auditing

Paul J. Granetto, Director, Contract Management, OAIG—Auditing

John F. Keenan, Assistant Inspector General for Investigations

Frederick J. Lane, Director, Finance and Accounting, OAIG—Auditing

Joel L. Leson, Director, Administration and Information Management

Carol L. Levy, Deputy Assistant Inspector General for Investigations

Robert J. Lieberman, Assistant Inspector General for Auditing

Donald Mancuso, Deputy Inspector General

David K. Steensma, Deputy Assistant Inspector General for Auditing

Alan W. White, Director, Investigative Operations, OAIG for Investigations

Shelton R. Young, Director, Readiness and Logistics Support, OAIG—Auditing

Robert L. Ashbaugh, Deputy Inspector General, Department of Justice

Mr. John J. Connors, Deputy Inspector General, Department of Housing and Urban Development

Ms. Patricia Dalton, Deputy Inspector General, Department of Labor

Mr. Joel S. Gallay, Deputy Inspector General, General Services Administration

Mr. Everett L. Mosely, Acting Inspector General, Agency for International Development

Dated: June 14, 2000.
L.M. Bynum,
Alternate OSD Federal Register Liaison Officer, Department of Defense.

[FR Doc. 00-15440 Filed 6-19-00; 8:45 am]

BILLING CODE 5001-10-M